DEPARTMENT OF TRANSPORTATION

Federal Aviation Administration

14 CFR Part 97

[Docket No. 30312; Amdt. No. 3008]

Standard Instrument Approach Procedures; Miscellaneous Amendments

AGENCY: Federal Aviation Administration (FAA), DOT.

ACTION: Final rule.

SUMMARY: This amendment establishes, amends, suspends, or revokes Standard Instrument Approach Procedures (SIAPs) for operations at certain airports. These regulatory actions are needed because of changes occurring in the National Airspace System, such as the commissioning of new navigational facilities, addition of new obstacles, or changes in air traffic requirements. These changes are designed to provide safe and efficient use of the navigable airspace and to promote safe flight operations under instrument flight rules at the affected airports.

DATES: An effective date for each SIAP is specified in the amendatory provisions.

Incorporated by reference-approved by the Director of the Federal Register on December 31, 1980, and reapproved as of January 1, 1982.

ADDRESSES: Availability of matter incorporated by reference in the amendment is as follows:

For Examination—

1. FAA Rules Docket, FAA Headquarters Building, 800 Independence Avenue, SW., Washington, DC 20591;

2. The FAA Regional Office of the region in which affected airport is located; or

3. The Flight Inspection Area Office which originated the SIAP.

For Purchase—Individual SIAP copies may be obtained from:

1. FAA Public Inquiry Center (APA-200), FAA Headquarters Building, 800 Independence Avenue, SW., Washington, DC 20591; or

2. The FAA Regional Office of the region in which the affected airport is located.

By Subscription—Copies of all SIAPs, mailed once every 2 weeks, are for sale by the Superintendent of Documents, US Government Printing Office, Washington, DC 20402.

FOR FURTHER INFORMATION CONTACT: Donald P. Pate, Flight Procedure Standards Branch (AMCAFS-420), Flight Technologies and Programs Division, Flight Standards Service, Federal Aviation Administration, Mike Monroney Aeronautical Center, 6500 South MacArthur Blvd. Oklahoma City, OK. 73169 (Mail Address: P.O. Box 25082 Oklahoma City, OK. 73125) telephone: (405) 954-4164.

SUPPLEMENTARY INFORMATION: This amendment to part 97 of the Federal Aviation Regulations (14 CFR part 97) establishes, amends, suspends, or revokes Standard Instrument Approach Procedures (SIAPs). The complete regulatory description on each SIAP is contained in the appropriate FAA Form 8260 and the National Flight Data Center (FDC)/Permanent (P) Notices to Airmen (NOTAM) which are incorporated by reference in the amendment under 5 U.S.C. 552(a), 1 CFR part 51, and § 97.20 of the Federal Aviation's Regulations (FAR). Materials incorporated by reference are available for examination or purchase as stated above.

The large number of SIAPs, their complex nature, and the need for a special format make their verbatim publication in the Federal Register expensive and impractical. Further, airmen do not use the regulatory text of the SIAPs, but refer to their graphic depiction of charts printed by publishers of aeronautical materials. Thus, the advantages of incorporation by reference are realized and publication of the complete description of each SIAP contained in FAA form documents is unnecessary. The provisions of this amendment state the affected CFR (and FAR) sections, with the types and effective dates of the SIAPs. This amendment also identifies the airport, its location, the procedure identification and the amendment number.

The Rule

This amendment to part 97 of the Federal Aviation Regulations (14 CFR part 97) establishes, amends, suspends, or revokes SIAPs. For safety and timeliness of change considerations, this amendment incorporates only specific changes contained in the content of the following FDC/P NOTAMs for each SIAP. The SIAP information in some previously designated FDC/Temporary (FDC/T) NOTAMs is of such duration as to be permanent. With conversion to FDC/P NOTAMs, the respective FDC/T NOTAMs have been canceled.

The FDC/P NOTAMs for the SIAPs contained in this amendment are based on the criteria contained in the U.S. Standard for Terminal Instrument Procedures (TERPS). In developing these chart changes to SIAPs by FDC/P NOTAMs, the TERPS criteria were applied to only these specific conditions existing at the affected airports. All SIAP amendments in this rule have been previously issued by the FAA in a National Flight Data Center (FDC) Notice to Airmen (NOTAM) as an emergency action of immediate flight safety relating directly to published aeronautical charts. The circumstances which created the need for all these SIAP amendments requires making them effective in less than 30 days.

Further, the SIAPs contained in this amendment are based on the criteria contained in the TERPS. Because of the close and immediate relationship between these SIAPs and safety in air commerce, I find that notice and public procedure before adopting these SIAPs are impracticable and contrary to the public interest and, where applicable, that good cause exists for making these SIAPs effective in less than 30 days.

Conclusion

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR part 97

Air Traffic Control, Airports, Navigation (Air).

Issued in Washington, DC on May 26, 2002.
James J. Ballough,
Director, Flight Standards Service.

Adoption of the Amendment

Accordingly, pursuant to the authority delegated to me, part 97 of the Federal Aviation Regulations (14 CFR part 97) is amended by establishing, amending, suspending, or revoking Standard Instrument Approach Procedures, effective at 0901 UTC on the dates specified, as follows:

PART 97—STANDARD INSTRUMENT APPROACH PROCEDURES

1. The authority citation for part 97 is revised to read as follows:

Authority: 49 U.S.C. 40103, 40113, 40120, 44701; 49 U.S.C. 106(g); and 14 CFR 11.49(b)(2).

2. Part 97 is amended to read as follows:

§ 97.23, § 97.25, § 97.27, § 97.29, § 97.31, § 97.33, § 97.35 [Amended]

By amending: § 97.23 VOR, VOR/DME, VOR or TACAN, and VOR/DME or TACAN: § 97.25 LOC, LOC/DME, LDA, LDA/DME, SDF, SDF/DME; § 97.27 NDB, NDB/DME; § 97.29 ILS, ILS/DME, ISMLS, MLS/DME, MLS/RNAV; § 97.31 RADAR SIAPs; § 97.33 RNAV SIAPs; and § 97.35 COPTER SIAPs, Identified as follows:

Effective Upon Publication

FDC Date | State | City | Airport | FDC No. | Subject
02/22/01 | OK | Oklahoma City | Will Rogers World | 1/1950 | RNAV (GPS) Rwy 17L, Orig.
10/26/01 | TX | San Antonio | San Antonio Intl | 1/1648 | NDB Rwy 12R, Amdt 20C.
12/27/01 | TX | El Paso | El Paso Intl | 1/3499 | VOR Rwy 26L, Amdt 29C.
12/27/01 | TX | El Paso | El Paso Intl | 1/3500 | GPS Rwy 26L, Orig.
12/27/01 | TX | El Paso | El Paso Intl | 1/3501 | GPS Rwy 4, Orig.
12/27/01 | TX | El Paso | El Paso Intl | 1/3502 | LOC/DME Rwy 4, Amdt 2A.
02/21/02 | MO | Springfield-Branson Regional | Springfield | 2/1512 | RNAV (GPS) Rwy 14, Orig.
04/11/02 | OK | Oklahoma City | Will Rogers World | 2/2925 | NDB Rwy 35L, Orig.
04/11/02 | TX | McKinney | McKinney Muni | 2/2938 | ILS Rwy 17, Amdt 1B. This Corrects 2/2828 IN TL 02-11.
04/11/02 | TX | Denton | Denton Muni | 2/2959 | NDB or GPS Rwy 17, Amdt 6B.
04/18/02 | CA | Willits | Ells Field-Willits Muni | 2/3175 | RNAV (GPS) Rwy 16, Orig.
04/18/02 | VA | Richmond | Richmond Intl | 2/3224 | ILS Rwy 34, Amdt 13.
04/18/02 | PW | Babelthuap Island | Koror | 2/3238 | GPS Rwy 9, Amdt 1A.
04/18/02 | PW | Babelthuap Island | Koror | 2/3239 | GPS Rwy 27, Amdt 1A.
04/25/02 | TX | Eastland | Eastland Regional | 2/3481 | NDB Rwy 35, Amdt 2.
05/03/02 | TX | Houston | George Bush Intercontinental Arpt/Houston | 2/3726 | ILS Rwy 8, Amdt 20A.
05/03/02 | TX | Houston | George Bush Intercontinental Arpt/Houston | 2/3727 | ILS Rwy 9, Amdt 5A.
05/03/02 | TX | Houston | George Bush Intercontinental Arpt/Houston | 2/3728 | ILS Rwy 26, Amdt 16A.
05/03/02 | TX | Houston | George Bush Intercontinental Arpt/Houston | 2/3729 | ILS Rwy 27, Amdt 4A.
05/03/02 | TX | Houston | George Bush Intercontinental Arpt/Houston | 2/3730 | NDB Rwy 26, Amdt 2A.
05/03/02 | TX | Houston | George Bush Intercontinental Arpt/Houston | 2/3731 | VOR/DME Rwy 33R, Amdt 14A.
05/03/02 | TX | Houston | George Bush Intercontinental Arpt/Houston | 2/3736 | RNAV (GPS) Rwy 8, Orig-A.
05/03/02 | TX | Houston | George Bush Intercontinental Arpt/Houston | 2/3738 | RNAV (GPS) Rwy 26, Orig-A.
05/03/02 | TX | Houston | George Bush Intercontinental Arpt/Houston | 2/3740 | RNAV (GPS) Rwy 27, Orig-A.
05/03/02 | TX | Houston | George Bush Intercontinental Arpt/Houston | 2/3742 | RNAV (GPS) Rwy 33R, Orig-A.
05/03/02 | TX | Houston | George Bush Intercontinental Arpt/Houston | 2/3744 | RNAV (GPS) Y Rwy 9, Orig-A.
05/03/02 | TX | Houston | George Bush Intercontinental Arpt/Houston | 2/3746 | RNAV (GPS) Z Rwy 9, Orig-A.
05/08/02 | AR | Fort Smith | Fort Smith Regional | 2/3855 | VOR or TACAN Rwy 25, Amdt 20C.
05/08/02 | IA | Cedar Rapids | The Eastern Iowa | 2/3887 | GPS Rwy 31, Orig-D.
05/08/02 | TN | Portland | Portland Muni | 2/3890 | VOR/DME Rwy 19, Amdt 3.
05/09/02 | MD | Easton | Easton/Newman Field | 2/3919 | NDB or GPS Rwy 22, Amdt 8.
05/09/02 | GA | Griffin | Griffin-Spalding County | 2/3926 | GPS Rwy 14, Orig.
05/09/02 | GA | Griffin | Griffin-Spalding County | 2/3927 | GPS Rwy 32, Orig.
05/09/02 | GA | Griffin | Griffin-Spalding County | 2/3928 | NDB Rwy 32, Orig.
05/09/02 | GA | Athens | Athens/Ben Epps | 2/3929 | VOR or GPS Rwy 2, Amdt 10.
05/09/02 | GA | Athens | Athens/Ben Epps | 2/3930 | VOR Rwy 27, Amdt 11.
05/09/02 | GA | Athens | Athens/Ben Epps | 2/3931 | ILS Rwy 27, Orig.
05/09/02 | GA | Athens | Athens/Ben Epps | 2/3932 | NDB or GPS Rwy 27, Orig.
05/09/02 | LA | Natchitoches | Natchitoches Regional | 2/3940 | NDB or GPS Rwy 34, Amdt 4B.
05/09/02 | LA | Natchitoches | Natchitoches Regional | 2/3942 | LOC Rwy 34, Amdt 3B.
05/10/02 | KY | Mount Sterling-Montgomery | Mount Sterling-Montgomery County | 2/3964 | NDB Rwy 21, Amdt 1A.
05/10/02 | KY | Mount Sterling-Montgomery | Mount Sterling-Montgomery County | 2/3965 | NDB or GPS Rwy 3, Amdt 1B.
05/10/02 | KY | Mount Sterling-Montgomery | Mount Sterling-Montgomery County | 2/3966 | GPS Rwy 21, Amdt 1.
05/12/02 | TX | Houston | Ellington Field | 2/3959 | ILS Rwy 22, Amdt 3A.
05/13/02 | OH | Columbus | Columbus/Port Columbus Intl | 2/4027 | ILS Rwy 10R, Amdt 7.
05/13/02 | OH | Bowling Green | Wood County | 2/4036 | VOR/DME RNAV Rwy 27, Amdt 1.
05/13/02 | OH | Bowling Green | Wood County | 2/4037 | GPS Rwy 27, Orig.
05/13/02 | NC | Raleigh-Durham | Raleigh-Durham Intl | 2/4040 | ILS Rwy 5L, Amdt 4.
05/13/02 | NC | Raleigh-Durham | Raleigh-Durham Intl | 2/4041 | ILS Rwy 5R, Amdt 26.
05/15/02 | GA | Columbus | Columbus Metropolitan | 2/4114 | RADAR-1, Amdt 8A.
05/15/02 | GA | Columbus | Columbus Metropolitan | 2/4115 | ILS Rwy 5, Amdt 24B.
05/15/02 | GA | Columbus | Columbus Metropolitan | 2/4116 | VOR/DME RNAV or GPS Rwy 23, Amdt 2.
05/15/02 | GA | Columbus | Columbus Metropolitan | 2/4117 | NDB or GPS Rwy 5, Amdt 27A.
05/15/02 | MN | Benson | Benson Muni | 2/4125 | NDB or GPS Rwy 14, Amdt 6.
05/15/02 | AL | Decatur | Pryor Field Regional | 2/4127 | RNAV (GPS) Rwy 36, Orig.
05/16/02 | WA | Richland | Richland | 2/4159 | VOR or GPS Rwy 25, Amdt 6A.
05/16/02 | WA | Richland | Richland | 2/4160 | NDB or GPS Rwy 19, Amdt 5.
05/16/02 | WA | Richland | Richland | 2/4161 | LOC Rwy 19, Amdt 5.
05/16/02 | NY | Canandaigua | Canandaigua | 2/4163 | VOR-A Orig.
05/16/02 | KS | Wichita | Cessna Aircraft Field | 2/4171 | VOR or GPS-C, Orig-A.
05/17/02 | NM | Albuquerque | Albuquerque Intl Sunport | 2/4197 | NDB Rwy 35, Amd 7B.
05/17/02 | NM | Albuquerque | Albuquerque Intl Sunport | 2/4198 | RNAV (GPS) Rwy 35, Orig.
05/17/02 | NM | Albuquerque | Albuquerque Intl Sunport | 2/4199 | RNAV (GPS) Rwy 17, Orig.
05/17/02 | NM | Albuquerque | Albuquerque Intl Sunport | 2/4200 | ILS Rwy 8, Amdt 5B.
05/17/02 | NM | Albuquerque | Albuquerque Intl Sunport | 2/4201 | ILS Rwy 3, Orig-D.
05/17/02 | NM | Albuquerque | Albuquerque Intl Sunport | 2/4202 | NAV (gps) Rwy 3, Orig.
05/17/02 | TX | Denton | Denton Muni | 2/4209 | ILS Rwy 17, Amdt 6B.
05/17/02 | OK | Holdenville | Holdenville Muni | 2/3239 | GPS RWY 17, Amdt 1.
05/20/02 | TN | Millington | Millington Muni | 2/4282 | VOR/DME Rwy 22, Orig-A.
05/21/02 | IL | Moline | Quad City Intl | 2/4321 | NDB or GPS Rwy 9, Amdt 27C.
05/21/02 | IL | Moline | Quad City Intl | 2/4322 | ILS Rwy 27, Orig-B.
05/21/02 | IL | Moline | Quad City Intl | 2/4323 | ILS Rwy 9, Amdt 29C.
05/21/02 | OH | Wilmington | Airborne Airpark | 2/4332 | VOR or GPS Rwy 4L, Amdt 5C.
05/21/02 | OH | Wilmington | Airborne Airpark | 2/4333 | VOR/DME or GPS Rwy 22R, Amdt 4C.
05/21/02 | OH | Wilmington | Airborne Airpark | 2/4335 | NDB Rwy 4L, Amdt 2D.
05/21/02 | OH | Wilmington | Airborne Airpark | 2/4336 | VOR Rwy 22R, Amdt 4B.

[FR Doc. 02-13818 Filed 5-31-02; 8:45 am]

BILLING CODE 4910-13-M